DEPARTMENT OF AGRICULTURE

Forest Service

Catron County Resource Advisory Committee

AGENCY: Forest Service, USDA.

ACTION: Notice of meeting.

SUMMARY: The Catron County Resource Advisory Committee will meet in Reserve New Mexico, on April 1, 2003, from 10 a.m. MST to 4 p.m. MST. The purpose of the meeting is to initiate the resource advisory committee process, earn the roles and the responsibilities of the committee, discuss elements of Pub. L. 106-393 (the Secure Rural Schools and Community Self-Determination Act), and formulate operating guidelines including the next meeting date.

DATES: The meeting will be held April 1, 2003.

ADDRESSES: The meeting will be held at the Catron County Courtroom of the Catron County Court House, 101 Main Street, Reserve, New Mexico, 87830. Send written comments to Michael Gardner, Catron County Resource Advisory Committee, c/o Forest Serivce, USDA, 3005 E. Camino del Bosque, Silver City, New Mexico, 88061-7863, or electronically to mgardner01@fs.fed.us.

FOR FURTHER INFORMATION CONTACT: Michael Gardner, Rural Community Assistant Staff, Gila National Forest, (505)388-8212.

SUPPLEMENTARY INFORMATION: The meeting is open to the public. Committee discussion is limited to Forest Service staff and Committee members. However, persons who wish to bring Pub. L. 106-393 related matters to the attention of the Committee may file written statements with the Committee Staff before or after the meeting. Public input sessions will be provided and individuals who made written requests by March 25, 2003, will have the opportunity to address the Committee at this session.

Dated: February 14, 2003.
Delbert J. Griego,
Acting Forest Supervisor.

[FR Doc. 03-4235 Filed 2-21-03; 8:45 am]

BILLING CODE 3410-11-M